DEPARTMENT OF LABOR

Office of Workers' Compensation Programs

20 CFR Part 702

RIN 1240-AA17

Longshore and Harbor Workers' Compensation Act: Civil Money Penalties Procedures; Withdrawal

AGENCY: Office of Workers' Compensation Programs, Labor.

ACTION: Withdrawal of notice of proposed rulemaking.

SUMMARY: The Office of Workers' Compensation Programs (OWCP) is withdrawing its Notice of Proposed Rulemaking (NPRM) that proposed new procedures for assessing and adjudicating penalties under the Longshore and Harbor Workers' Compensation Act (LHWCA).

DATES: The withdrawal is effective January 13, 2025.

FOR FURTHER INFORMATION CONTACT: Stephanie S. Brown, Acting Director, Division of Longshore and Harbor Workers' Compensation, Office of Workers' Compensation Programs, (562)-256-3190, brown.stephanie.s@dol.gov. TTY/TDD callers may dial toll free 1-877-889-5627 for further information.

SUPPLEMENTARY INFORMATION:

Summary of the Notice of Proposed Rulemaking

On September 12, 2023, OWCP published a notice of proposed rulemaking, Longshore and Harbor Workers' Compensation Act: Civil Money Penalties Procedures, 88 FR 62480 (Sept. 12, 2023). This rule would establish new procedures for assessing and adjudicating penalties under the LHWCA. See 33 U.S.C. 901-50. The rule also would set forth the procedures to contest OWCP's penalty determinations. The comment period for this notice of proposed rulemaking expired on November 13, 2023.

Summary of Comments

The Department received six comments on the proposed regulations. The commenters represented a number of stakeholders from the private sector, including group self-insurance entities, industry associations, and a business advocacy organization.

Rationale for Withdrawal

OWCP has considered the detailed feedback, analysis, and dialogue that the publication of the NPRM produced. OWCP continues to believe that there is a need for a more defined and transparent process for imposing and adjudicating penalties.

Given the range of feedback received and the need for additional examination and input, however, OWCP believes that, before proceeding with this rulemaking, it would benefit from more outreach and dialogue with interested parties and the regulated community, which it cannot complete in the near future with its limited time and resources. In addition, many aspects of the proposed rule and the penalty process are closely connected to OWCP's information technology modernization project and cannot move forward until that project is completed. Therefore, OWCP is withdrawing this proposed rule.

Conclusion

By withdrawing the proposed rule, OWCP is eliminating the pending nature of this rulemaking. OWCP intends to engage with all interested parties to discuss and consider future revision to the penalties procedures, as well as impacts on the stakeholders. If OWCP decides to establish new procedures for the imposition and adjudication of civil money penalties prescribed by the LHWCA, it will issue a new NPRM in the Federal Register.

Accordingly, the NPRM published in the Federal Register on September 12, 2023 at 88 FR 62480, is withdrawn.

Christopher Godfrey,
Director, Office of Workers' Compensation Programs.

[FR Doc. 2025-00376 Filed 1-10-25; 8:45 am]

BILLING CODE 4510-CR-P